DEPARTMENT OF TRANSPORTATION

Federal Aviation Administration

14 CFR Part 39

[Docket No. FAA-2005-23252; Directorate Identifier 2004-NM-146-AD; Amendment 39-14414; AD 2005-25-21]

RIN 2120-AA64

Airworthiness Directives; Airbus Model A330-243, -341, -342, and -343 Airplanes Equipped with Rolls-Royce RB211 TRENT 700 Engines

AGENCY: Federal Aviation Administration (FAA), Department of Transportation (DOT).

ACTION: Final rule; request for comments.

SUMMARY: The FAA is adopting a new airworthiness directive (AD) for certain Airbus Model A330-243, -341, -342, and -343 airplanes equipped with Rolls-Royce RB211 TRENT 700 engines. This AD requires modifying the cowl assemblies of the left- and right-hand thrust reversers. This AD results from a review of certification tests of the thrust reverser, which revealed that certain structural components within the C-duct need strengthening to meet high fatigue loads and maintain structural integrity. We are issuing this AD to prevent fatigue cracking of the hinges integrated into the 12 o'clock beam of the thrust reversers, which could result in separation of a thrust reverser from the airplane, and consequent reduced controllability of the airplane.

DATES: This AD becomes effective December 29, 2005.

The Director of the Federal Register approved the incorporation by reference of a certain publication listed in the AD as of December 29, 2005.

We must receive comments on this AD by February 13, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for the service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Discussion

The Direction Générale de l'Aviation Civile (DGAC), which is the airworthiness authority for France, notified us that an unsafe condition may exist on certain Airbus Model A330-243, -341, -342, and -343 airplanes equipped with Rolls-Royce RB211 TRENT 700 engines. The DGAC advises that a review of certification tests of the thrust reverser revealed that certain structural components within the C-duct need strengthening to meet high fatigue loads and maintain structural integrity. Unexpected high loads were measured on the hinges integrated into the 12 o'clock beam of the thrust reverser; the 12 o'clock beam forms the upper edge of the C-duct of the thrust reverser on Rolls-Royce engines. This condition, if not corrected, could result in fatigue cracking of the hinges integrated into the 12 o'clock beam of the thrust reversers, separation of a thrust reverser from the airplane, and consequent reduced controllability of the airplane.

Relevant Service Information

Airbus has issued Service Bulletin A330-78-3010, Revision 03, dated April 28, 2004. The service bulletin describes procedures for modifying the cowl assemblies of the left- and right-hand thrust reversers. Accomplishing the actions specified in the service information is intended to adequately address the unsafe condition. The DGAC mandated the service information and issued French airworthiness directive F-2001-528 R2, dated June 23, 2004, to ensure the continued airworthiness of these airplanes in France.

The service bulletin refers to Rolls-Royce Service Bulletin RB.211-78-C899, Revision 3, dated May 7, 2004, as an additional source of service information for modifying the cowl assemblies of the left- and right-hand thrust reversers. The modification includes related investigative actions, and repair if necessary. The related investigative actions include certain inspections for discrepancies of the bores, bushings, plug holes, and cavity webs of the thrust reversers.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent fatigue cracking of the hinges integrated into the 12 o'clock beam of the thrust reversers, which could result in separation of a thrust reverser from the airplane, and consequent reduced controllability of the airplane. This AD requires accomplishing the actions specified in the Airbus service information described previously except as discussed under “Difference Among the AD, French Airworthiness Directive, and Airbus Service Information.”

Difference Among the AD, French Airworthiness Directive, and Airbus Service Information

The French airworthiness directive and the service information specify a modification that involves replacement of certain thrust reverser C-ducts with new ducts at or before specific total flight cycle thresholds. This AD requires you to replace the affected parts before the accumulation of those thresholds or within 6 months after the effective date of the AD, whichever is later. A table containing those flight cycle thresholds is specified in paragraph (f) of this AD. We have included a 6-month grace period to ensure that any airplane that is close to or has passed its applicable threshold (if imported and placed on the U.S. Register) is not grounded as of the effective date of the AD.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required modification would take about 1 work hour per airplane, at an average labor rate of $65 per work hour. Based on these figures, the estimated cost of the modification would be $65 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2005-23252; Directorate Identifier 2004-NM-146-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-25-21 Airbus: Amendment 39-14414. Docket No. FAA-2005-23252; Directorate Identifier 2004-NM-146-AD.

Effective Date

(a) This AD becomes effective December 29, 2005.

Affected ADs

(b) None.

Applicability

(c) This AD applies to Airbus Model A330-243, -341, -342, and -343 airplanes, certificated in any category; equipped with Rolls-Royce RB211 TRENT 700 engines.

Unsafe Condition

(d) This AD results from a review of certification tests of the thrust reverser, which revealed that certain structural components within the C-duct need strengthening to meet high fatigue loads and maintain structural integrity. The FAA is issuing this AD to prevent fatigue cracking of the hinges integrated into the 12 o'clock beam of the thrust reversers, which could result in separation of a thrust reverser from the airplane, and consequent reduced controllability of the airplane.

Compliance

(e) You are responsible for having the actions required by this AD performed within the compliance times specified, unless the actions have already been done.

Modification

(f) At the applicable compliance time specified in Table 1 of this AD: Modify the cowl assemblies of the left- and right-hand thrust reversers in accordance with Airbus Service Bulletin A330-78-3010, Revision 03, dated April 28, 2004.

Table 1.—Modification (Part Replacement) Thresholds
Replace part number— | At the later of the times specified—
(1) 3410L, 3410R, 3411L, 3411R, 3412R, 3413R | (i) Before the accumulation of 10,000 total flight cycles since the C-duct was new | (ii) Within 6 months after the effective date of this AD.
(2) 3414L, 3416R, 3417R | (i) For airplanes modified according to Airbus Service Bulletin A330-78-3010 with more than 7,200 total flight cycles since the C-duct was new: Before the accumulation of 10,000 total flight cycles since the C-duct was new | (iii) Within 6 months after the effective date of this AD.
| (ii) For airplanes modified according to Airbus Service Bulletin A330-78-3010 with less than or equal to 7,200 total flight cycles since the C-duct was new: Before the accumulation of 25,000 total flight cycles since the C-duct was new
(3) 3414L, 3416R, 3417R | (i) For airplanes modified in production by Airbus Modification 47316: Before the accumulation of 25,000 total flight cycles since the C-duct was new | (ii) Within 6 months after the effective date of this AD.
(4) 3412L, 3414R | (i) For airplanes modified in production by Airbus Modification 46879: Before the accumulation of 25,000 total flight cycles since the C-duct was new | (ii) Within 6 months after the effective date of this AD.
(5) 3413L, 3415R | (i) Before the accumulation of 40,000 total flight cycles since the C-duct was new | (ii) Within 6 months after the effective date of this AD.

Note 1: Airbus Service Bulletin A330-78-3010, Revision 03, dated April 28, 2004, refers to Rolls-Royce Service Bulletin RB.211-78-C899, Revision 3, dated May 7, 2004, as an additional source of service information for modifying the cowl assemblies of the left- and right-hand thrust reversers.

Parts Installation

(g) As of the effective date of this AD, no person may install, on any airplane, a cowl assembly of the left- or right-hand thrust reverser if the airplane has exceeded the applicable flight cycle threshold specified in Table 1 of this AD.

Alternative Methods of Compliance (AMOCs)

(h) The Manager, International Branch, ANM-116, Transport Airplane Directorate, FAA, has the authority to approve AMOCs for this AD, if requested in accordance with the procedures found in 14 CFR 39.19.

Related Information

(i) French airworthiness directive F-2001-528 R2, dated June 23, 2004, also addresses the subject of this AD.

Material Incorporated by Reference

(j) You must use Airbus Service Bulletin A330-78-3010, Revision 03, dated April 28, 2004, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 2, 2005.
Kalene C. Yanamura,
Acting Manager, Transport Airplane Directorate, Aircraft Certification Service.

[FR Doc. 05-23902 Filed 12-13-05; 8:45 am]

BILLING CODE 4910-13-P